ENVIRONMENTAL PROTECTION AGENCY

[FRL-7006-1]

Proposed CERCLA Administrative Cost Recovery Settlement; Peterson Puritan, Inc. Superfund Site, Cumberland, RI

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past response costs concerning Operable Unit Two of the Peterson Puritan, Inc. Superfund Site in Cumberland, Rhode Island with the following settling parties: Bestfoods and CCL Custom Manufacturing, Inc. The settlement requires the settling parties to pay $609,754.87 plus an additional sum for interest on that amount calculated from April 13, 2001 through the date of payment to the Hazardous Substance Superfund. The settlement includes a covenant not to sue the settling parties pursuant to sections 106 and 107(a) of CERCLA, 42 U.S.C. 9606 and 9607(a). For thirty (30) days following the date of publication of this notice, the United States Environmental Protection Agency will receive written comments relating to the settlement. The United States will consider all comments received and may modify or withdraw its consent to the settlement if comments received disclose facts or considerations which indicate that the settlement is inappropriate, improper, or inadequate. The United States Environmental Protection Agency's response to any comments received will be available for public inspection at the Cumberland Public Library, Cumberland, Rhode Island, the Lincoln Public Library, Lincoln, Rhode Island and U.S. Environmental Protection Agency, Region 1, One Congress Street, Suite 1100, Boston, MA 02114.

DATES: Comments must be submitted on or before September 17, 2001.

ADDRESSES: The proposed settlement is available for public inspection at U.S. Environmental Protection Agency, Region 1, One Congress Street, Suite 1100, Boston, MA 02114. A copy of the proposed settlement may be obtained from Diane Boudrot, Office of Environmental Stewardship, U.S. EPA, Region 1, One Congress Street, Suite 1100 (SES), Boston, MA 02114, (617) 918-1776. Comments should reference the Peterson Puritan, Inc. Superfund Site, Cumberland, Rhode Island and EPA Docket No. CERCLA 01-2001-0057 and should be addressed to Michelle Lauterback, Office of Environmental Stewardship, U.S. EPA, Region 1, One Congress Street, Suite 1100 (SES), Boston, MA 02114.

FOR FURTHER INFORMATION CONTACT: For legal questions, Michelle Lauterback, Office of Environmental Stewardship, U.S. EPA, Region 1, One Congress Street, Suite 1100 (SES), Boston, MA 02114, (617) 918-1774 or for technical questions, Dave Newton, Office of Site Remediation and Restoration, U.S. EPA, Region 1, One Congress Street, Suite 1100 (HBO), Boston, MA 02114, (617) 918-1243.

Dated: June 21, 2001.
Richard Cavagnero,
Acting Director, Office of Site Remediation and Restoration, Region 1.

[FR Doc. 01-20797 Filed 8-16-01; 8:45 am]

BILLING CODE 6560-50-P